DEPARTMENT OF TRANSPORTATION

Federal Aviation Administration

14 CFR Part 25

[Docket No. FAA-2000-7471; Notice No. 00-04]

RIN 2120-AG94

Fire Protection Requirements for Powerplant Installations on Transport Category Airplanes

AGENCY: Federal Aviation Administration (FAA), DOT.

ACTION: Notice of proposed rulemaking.

SUMMARY: The Federal Aviation Administration proposes to amend the airworthiness standards for transport category airplanes to establish a new requirement for fire protection of powerplant installations. This proposal would require that components within a designated fire zone must be fireproof if, when exposed to or damaged by fire, they could pose a hazard to the airplane. Adopting this proposal would eliminate regulatory differences between the airworthiness standards of the U.S. and the Joint Aviation Requirements of Europe, without affecting current industry design practices.

DATES: Send your comments on or before August 11, 2000.

ADDRESSES: Address your comments to Dockets Management System, U.S. Department of Transportation Dockets, Room Plaza 401, 400 Seventh Street SW., Washington, DC 20590-0001. You must identify the docket number FAA-2000-7471 at the beginning of your comments, and you should submit two copies of your comments. If you wish to receive confirmation that the FAA has received your comments, please include a self-addressed, stamped postcard on which the following statement is made: “Comments to Docket No. FAA-2000-7471.” We will date-stamp the postcard and mail it back to you.

You also may submit comments electronically to the following Internet address: http://dms.dot.gov.

You may review the public docket containing comments to this proposed regulation at the Department of Transportation (DOT) Dockets Office, located on the plaza level of the Nassif Building at the above address. You may review the public docket in person at this address between 9 a.m. and 5 p.m., Monday through Friday, except Federal holidays. In addition, you may review the public dockets on the Internet at http://dms.dot.gov.

FOR FURTHER INFORMATION CONTACT: Michael K. McRae, Propulsion/Mechanical Systems Branch, ANM-112, Transport Airplane Directorate, Aircraft Certification Service, FAA, Northwest Mountain Region, 1601 Lind Avenue S.W., Renton, Washington 98055-4056; telephone (425) 227-2133; facsimile (425) 227-1320; e-mail: mike.mcrae@faa.gov.

SUPPLEMENTARY INFORMATION:

How Do I Submit Comments to this NPRM?

Interested persons are invited to participate in the making of the proposed action by submitting such written data, views, or arguments, as they may desire. Comments relating to the environmental, energy, federalism, or economic impact that might result from adopting the proposals in this document are also invited. Substantive comments should be accompanied by cost estimates. Comments must identify the regulatory docket number and be submitted in duplicate to the DOT Rules Docket address specified above.

All comments received, as well as a report summarizing each substantive public contact with FAA personnel concerning this proposed rulemaking, will be filed in the docket. The docket is available for public inspection before and after the comment closing date.

We will consider all comments received on or before the closing date before taking action on this proposed rulemaking. Comments filed late will be considered as far as possible without incurring expense or delay. The proposals in this document may be changed in light of the comments received.

How Can I Obtain a Copy of This NPRM?

You may download an electronic copy of this document using a modem and suitable communications software from the FAA regulations section of the Fedworld electronic bulletin board service (telephone: 703-321-3339); the Government Printing Office (GPO)'s electronic bulletin board service (telephone: 202-512-1661); or, if applicable, the FAA's Aviation Rulemaking Advisory Committee bulletin board service (telephone: 800-322-2722 or 202-267-5948).

Internet users may access recently published rulemaking documents at the FAA's web page at http://www.faa.gov/avr/arm/nprm/nprm.htm or the GPO's web page at http://www.access.gpo.gov/nara.

You may obtain a copy of this document by submitting a request to the Federal Aviation Administration, Office of Rulemaking, ARM-1, 800 Independence Avenue, SW., Washington, DC 20591; or by calling 202-267-9680. Communications must identify the docket number of this NPRM.

Any person interested in being placed on the mailing list for future rulemaking documents should request from the above office a copy of Advisory Circular 11-2A, “Notice of Proposed Rulemaking Distribution System,” which describes the application procedure.

Background

What Are the Relevant Airworthiness Standards in the United States?

In the United States, the airworthiness standards for type certification of transport category airplanes are contained in Title 14 Code of Federal Regulations (CFR) part 25. Manufacturers of transport category airplanes must show that each airplane they produce of a different type design complies with the appropriate part 25 standards. These standards apply to:

• Airplanes manufactured within the U.S. for use by U.S.-registered operators, and

• Airplanes manufactured in other countries and imported to the U.S. under a bilateral airworthiness agreement.

What Are the Relevant Airworthiness Standards in Europe?

In Europe, the airworthiness standards for type certification of transport category airplanes are contained in Joint Aviation Requirements (JAR)-25, which are based on part 25. These were developed by the Joint Aviation Authorities (JAA) of Europe to provide a common set of airworthiness standards within the European aviation community. Twenty-three European countries accept airplanes type certificated to the JAR-25 standards, including airplanes manufactured in the U.S. that are type certificated to JAR-25 standards for export to Europe.

What Is “Harmonization” and How Did It Start?

Although part 25 and JAR-25 are very similar, they are not identical in every respect. When airplanes are type certificated to both sets of standards, the differences between part 25 and JAR-25 can result in substantial additional costs to manufacturers and operators. These additional costs, however, frequently do not bring about an increase in safety. In many cases, part 25 and JAR-25 may contain different requirements to accomplish the same safety intent. Consequently, manufacturers are usually burdened with meeting the requirements of both sets of standards, although the level of safety is not increased correspondingly.

Recognizing that a common set of standards would not only benefit the aviation industry economically, but also maintain the necessary high level of safety, the FAA and the JAA began an effort in 1988 to “harmonize” their respective aviation standards. The goal of the harmonization effort is to ensure that:

• Where possible, standards do not require domestic and foreign parties to manufacture or operate to different standards for each country involved; and

• The standards adopted are mutually acceptable to the FAA and the foreign aviation authorities.

Both the FAA and the JAA consider “harmonization” of the two sets of standards a high priority.

What Is ARAC and What Role Does It Play in Harmonization?

After initiating the first steps towards harmonization, the FAA and JAA soon realized that following the traditional methods of rulemaking and accommodating different administrative procedures was neither sufficient nor adequate to make appreciable progress towards fulfilling the goal of harmonization. The FAA then identified the Aviation Rulemaking Advisory Committee (ARAC) as an ideal vehicle for assisting in resolving harmonization issues, and, in 1992, the FAA tasked ARAC to undertake the entire harmonization effort.

The FAA had formally established ARAC in 1991 (56 FR 2190, January 22, 1991), to provide advice and recommendations concerning the full range of the FAA's safety-related rulemaking activity. The FAA sought this advice to develop better rules in less overall time and using fewer FAA resources than previously needed. The committee provides the FAA firsthand information and insight from interested parties regarding potential new rules or revisions of existing rules.

There are 64 member organizations on the committee, representing a wide range of interests within the aviation community. Meetings of the committee are open to the public, except as authorized by section 10(d) of the Federal Advisory Committee Act.

The ARAC establishes working groups to develop recommendations for resolving specific airworthiness issues. Tasks assigned to working groups are published in the Federal Register. Although working group meetings are not generally open to the public, the FAA solicits participation in working groups from interested members of the public who possess knowledge or experience in the task areas. Working groups report directly to the ARAC, and the ARAC must accept a working group proposal before ARAC presents the proposal to the FAA as an advisory committee recommendation.

The activities of the ARAC will not, however, circumvent the public rulemaking procedures; nor is the FAA limited to the rule language “recommended” by ARAC. If the FAA accepts an ARAC recommendation, the agency proceeds with the normal public rulemaking procedures. Any ARAC participation in a rulemaking package is fully disclosed in the public docket.

What Is the Status of the Harmonization Effort Today?

Despite the work that ARAC has undertaken to address harmonization, there remain a large number of regulatory differences between part 25 and JAR-25. The current harmonization process is extremely costly and time-consuming for industry, the FAA, and the JAA. Industry has expressed a strong desire to conclude the harmonization program as quickly as possible to alleviate the drain on their resources and to finally establish one acceptable set of standards.

Recently, representatives of the aviation industry [including Aerospace Industries Association of America, Inc. (AIA), General Aviation Manufacturers Association (GAMA), and European Association of Aerospace Industries (AECMA)] proposed an accelerated process to reach harmonization. These representatives recommended that the FAA and JAA harmonize differences between parallel part 25 and JAR-25 standards by accepting the more “stringent” of the two standards. “Stringent,” in this case, indicates the relative higher level of safety, or greater applicability to modern technology, between a part 25 standard and the parallel JAR-25 standard.

Aviation industry groups further refined their proposed process by suggesting that the 42 part 25 standards that already have been tasked to ARAC for harmonization be divided into three categories:

Category 1: Envelope—For these standards, parallel part 25 and JAR-25 standards would be compared, and harmonization would be reached by accepting the more stringent of the two standards. Thus, the more stringent requirement of one standard would be “enveloped” into the other standard. In some cases, it may be necessary to incorporate parts of both the part 25 and JAR standard to achieve the final, more stringent standard. (This may necessitate that each authority revises its current standard to incorporate more stringent provisions of the other.)

Category 2: Completed or near complete—For these standards, ARAC has reached, or has nearly reached, technical agreement or consensus on the new wording of the proposed harmonized standards.

Category 3: Harmonize—For these standards, ARAC is not near technical agreement on harmonization, and the parallel part 25 and JAR-25 standards cannot be “enveloped” (as described under Category 1) for reasons of safety or unacceptability. A standard developed under Category 3 would be mutually acceptable to the FAA and JAA, with a consistent means of compliance.

What Is the “Fast Track Harmonization Program”?

In light of the general agreement among the affected industries and authorities to expedite the harmonization program, and a willingness to consider “enveloping” of parallel standards, the FAA and JAA in March 1999 agreed upon a method to achieve these goals. This method, which the FAA has titled “The Fast Track Harmonization Program,” is aimed at expediting the rulemaking process for harmonizing not only the 42 standards that are currently tasked to ARAC for harmonization, but approximately 80 additional standards for part 25 airplanes.

The FAA initiated the Fast Track program on November 26, 1999 (64 FR 66522), by re-tasking ARAC to accomplish the following:

• Review a list of part 25/JAR-25 standards (approximately 120 parallel pairs) identified by industry, FAA, and JAA as having differences that should be harmonized in order to establish one single set of standards that represent the highest level of safety.

• Identify changes necessary to the standards to harmonize part 25 and JAR-25.

• Submit to the FAA a technical report on each standard and recommend what the requirements of the harmonized standard should be.

The FAA then considers the recommendations submitted by ARAC and initiates rulemaking action, as appropriate, based on those recommendations.

As implemented, the Fast Track program achieves its aims by:

• Considering the fundamentals of the industry proposals,

• Defining a process for expeditiously adopting the harmonized requirements,

• Maintaining an emphasis on using ARAC in making a group decision on the harmonization proposal, and

• Incorporating an improved ARAC rulemaking process that does not overburden the FAA and industry due to additional workload.

Discussion of the Proposal

How Does This Proposed Regulation Relate to “Fast Track”?

This proposed regulation results from the recommendations of ARAC submitted under the FAA's Fast Track Harmonization Program. (It was submitted as a Category 2 item.) In this notice, the FAA proposes to amend 14 CFR § 25.1183 (“Flammable fluid-carrying components”) to establish a new requirement for fire protection of powerplant installations.

What Are the Current 14 CFR and JAR Standards?

The current text of 14 CFR 25.1183(a) is:

“(a) Except as provided in paragraph (b) of this section, each line, fitting, and other component carrying flammable fluid in any area subject to engine fire conditions, and each component which conveys or contains flammable fluid in a designated fire zone must be fire resistant, except that flammable fluid tanks and supports in a designated fire zone must be fireproof or be enclosed by a fireproof shield unless damage by fire to any non-fireproof part will not cause leakage or spillage of flammable fluid. Components must be shielded or located to safeguard against the ignition of leaking flammable fluid. An integral oil sump of less than 25-quart capacity on a reciprocating engine need not be fireproof nor be enclosed by a fireproof shield.

(b) Paragraph (a) of this section does not apply to—

(1) Lines, fittings, and components which are already approved as part of a type certificated engine; and

(2) Vent and drain lines, and their fittings, whose failure will not result in, or add to, a fire hazard.”

The current text of JAR-25.1183 is identical to § 25.1183, but contains an additional paragraph 25.1183(c) that states:

“(c) All components, including ducts, within a designated fire zone must be fireproof if, when exposed to or damaged by fire, they could—

(1) Result in fire spreading to other regions of the airplane; or

(2) Cause unintentional operation of, or inability to operate, essential services or equipment.”

What Is the Proposed Action?

The FAA proposes to add a new § 25.1183(c), which would require that all components (including ducts) within a designated fire zone be fireproof if, when exposed to or damaged by fire, they could:

• Result in fire spreading to other regions of the airplane, or

• Cause unintentional operation of, or inability to operate, essential services or equipment.

The FAA considers that the addition of this paragraph to part 25 is necessary in order to harmonize the actual wording of part 25 with the JAR on this particular issue, and to clarify the intent of the part 25 regulation. The addition of § 25.1183(c) in part 25 will align the U.S. regulations with their European counterparts, and the wording of both airworthiness standards would be exactly parallel in this aspect.

Furthermore, the addition of § 25.1183(c) will provide some additional assurance that all “components” that need to be fireproof will be identified and qualified during certification. Adoption of this proposal is intended to benefit the public interest by standardizing the requirements, concepts, and procedures contained in the U.S. and European airworthiness standards without reducing the current level of safety.

What Is the Effect of the Proposed Standard Relative to the Current Regulations?

The FAA acknowledges that this proposed requirement might be considered redundant to other existing part 25 sections, including the following:

1. Section 25.1181 (“Designated fire zones; regions included”): This section identifies which areas of the powerplant installation are considered “fire zones,” including the engine power section, the engine accessory section, the auxiliary power unit (APU) compartment, etc. It also requires that each of these fire zones meet the fire protection requirements of:

• Section 25.867 (pertaining to components of the nacelles); and

• Section 25.1185 through § 25.1203 (pertaining to flammable fluids, drainage/ventilation of fire zones, means of fuel shutoff, fire extinguishing systems and agents, fire detection systems, etc.).

2. Section 25.1191 (“Firewalls”): This section requires that each engine, APU, fuel-burning heater, and other components and areas of the (turbine) engine be isolated from the rest of the airplane by firewalls or other equivalent means. Additionally, it requires that each firewall be fireproof, “leakproof” (so that no hazardous quantity of air, fluid, or flame can pass from the compartment), sealed (so that all openings are sealed with close fitting fireproof fasteners), and protected against corrosion.

3. Section 25.901(c) (“Powerplant, General—Installation”): This section requires that each powerplant and APU installation be designed so that no single failure, malfunction, or combination of failures will jeopardize the safe operation of the airplane. (It also specifies that the failure of structural elements need not be considered if the probability of such failure is determined to be extremely remote.)

While these regulations may seem redundant in effect to the proposed new paragraph 25.1183(c), the FAA considers it beneficial to clarify the objective of these rules by the addition of the new paragraph.

Further, the only difference between these current sections and the proposed new § 25.1183(c) is that the new paragraph would address fire protection specifically at the “component level,” whereas the other requirements, listed above, address fire protection at the “zone level” or the “installation level.”

In order to actually meet the “zone level” or “installation level” objectives currently within part 25, the components of the installation must be sufficiently fireproof to comply with the proposed § 25.1183(c). Hence, the FAA considers that the proposed “component level” requirement is met inherently by meeting the current, more general “zone level” requirements of § 25.1181 and § 25.1191, and the “installation level” requirements of § 25.901(c). For example, to comply with either the proposed § 25.1183(c) or the existing § 25.901(c), even when a duct is completely contained within a fire zone, if the duct is not fireproof, any airflow that would result from burnthrough of that duct must be considered when establishing the “critical airflow conditions” for compliance with § 25.1195(b). The fire detection, flammable fluid shutoff, and fire extinguishing means for the affected fire zone are some of the “essential services or equipment” of particular interest when showing compliance with the proposed § 25.1183(c).”

What Is the Effect of the Proposed Standard Relative to Current Industry Practice?

The proposed amendment would neither add any new or different objective to the current regulations, nor change the way that any current certification practice is applied. Instead, the intent of the new paragraph is to clarify and codify the way that the FAA traditionally has applied the related rules. Specifying the fire protection requirement at all three levels—zone, installation, and component—in the regulations will help to ensure that, by looking at the same problem in numerous ways, an applicant will not overlook anything during design development and certification.

What Other Options Have Been Considered and Why Were They Not Selected?

The only alternative to this proposed action that the ARAC (Working Group) considered was to delete JAR 25.1183(c). However, ARAC did not recommend this for the following reasons:

First, as noted above, the current § 25.1181 and § 25.1191 concern requirements for protecting zones in the airplane against fire, while the current § 25.901(c) concerns requirements for protecting the installation of each powerplant and auxiliary power unit against fire. On the other hand, the proposed § 25.1183(c) specifies requirements for protecting components on the airplane against fire. ARAC recognized that compliance with the proposed “component-level” requirement is met, in effect, by complying with the “zone-level” requirements of § 25.1181 and § 25.1191 and the “installation-level” requirements of § 25.901(c). However, ARAC considered (and the FAA agrees) that specifying in 14 CFR the fire protection requirement at all three levels—component, zone, and installation—will help to clarify (and codify) the intent of the current regulations, and ensure that nothing gets overlooked during design development.

Second, adopting § 25.1183(c) would have no significant additional impact on the cost of type certification, since it is consistent with standard design practices currently used to meet other part 25 regulations relevant to powerplant installation fire protection. In other words, the requirements of proposed § 25.1183(c) essentially are met already when an applicant properly demonstrates compliance with § 25.1181, § 25.1191, § 25.901(c), and other part 25 [subpart E (“Powerplant”)] regulations. Adopting the proposal would neither reduce nor increase the requirements beyond those that exist in the currently published regulations.

Finally, adopting the proposal would eliminate an identified Significant Regulatory Difference (SRD) between the wording of part 25 and JAR-25, without affecting currently accepted industry design practices. The benefits of eliminating an SRD such as this are that more consistent interpretations of the rules can be expected, and the relations between regulatory authorities may be improved.

Is Existing FAA Advisory Material Adequate?

There currently is no formal advisory material specifically concerning § 25.1183. FAA Advisory Circular 20-135, “Powerplant Installation and Propulsion System Component Fire Protection Test Methods, Standards, and Criteria,” does reference § 25.1183 in some of its guidance. At this time, however, the FAA does not consider that further guidance material is needed.

What Regulatory Analyses and Assessments Has the FAA Conducted?

Regulatory Evaluation Summary

Proposed changes to Federal regulations must undergo several economic analyses. First, Executive Order 12866 directs that each Federal agency shall propose or adopt a regulation only upon a reasoned determination that the benefits of the intended regulation justify its costs. Second, the Regulatory Flexibility Act of 1980 requires agencies to analyze the economic impact of regulatory changes on small entities. Third, the Trade Agreements Act (19 U.S.C. section 2531-2533) prohibits agencies from setting standards that create unnecessary obstacles to the foreign commerce of the United States. In developing U.S. standards, this Trade Act also requires the consideration of international standards and, where appropriate, that they be the basis of U.S. standards. And fourth, the Unfunded Mandates Reform Act of 1995 requires agencies to prepare a written assessment of the costs, benefits and other effects of proposed or final rules that include a Federal mandate likely to result in the expenditure by State, local, or tribal governments, in the aggregate, or by the private sector, of $100 million or more annually (adjusted for inflation).

In conducting these analyses, the FAA has determined that this proposed rule has benefits, but no costs, and that the rule is not a “significant regulatory action” as defined in the Executive Order nor “significant” as defined in DOT's Regulatory Policies and Procedures. Further, this proposed rule would not have a significant economic impact on a substantial number of small entities, would reduce barriers to international trade, and would not impose an Unfunded Mandate on state, local, or tribal governments, or on the private sector.

(DOT) Order 2100.5 prescribes policies and procedures for simplification, analysis, and review of regulations. If it is determined that the expected impact is so minimal that the proposed rule does not warrant a full evaluation, a statement to that effect and the basis for it is included in the proposed regulation. Accordingly, the FAA has determined that the expected impact of this proposed rule is so minimal that the proposed rule does not warrant a full evaluation. The FAA provides the basis for this minimal impact determination below.

Currently, airplane manufacturers must satisfy both the 14 CFR and the European JAR standards to certificate transport category aircraft in both the United States and Europe. Meeting two sets of certification requirements raises the cost of developing a new transport category airplane often with no increase in safety. In the interest of fostering international trade, lowering the cost of aircraft development, and making the certification process more efficient, the FAA, JAA, and aircraft manufacturers have been working to create, to the maximum possible extent, a single set of certification requirements accepted in both the United States and Europe. These efforts are referred to as harmonization. This proposed rule results from the FAA's acceptance of an ARAC harmonization working group's recommendation. Members of the ARAC working group agreed that this proposed rule would impose no additional cost to U.S. manufacturers of part 25 aircraft.

Specifically, this proposal would add JAR-25.1183 (c) to 14 CFR § 25.1183. As discussed in the preamble, the FAA has concluded that the only difference between the current sections and the proposed § 25.1183(c) is that the new paragraph would address fire protection specifically at the “component level,” whereas the existing requirements address fire protection at the “zone level” or the “installation level.” The FAA believes that adopting this proposal would neither reduce nor increase the requirements beyond those that exist in the current FAA published regulations.

As this proposal neither increases nor decreases certification requirements beyond those already in existence, the FAA believes there would be no cost associated with this proposal to part 25 manufacturers. The FAA has not attempted to quantify the benefits of this proposal beyond identifying the expected harmonization benefit. The adoption of this proposal would eliminate an identified SRD between the wording of the FAR and the JAR. The elimination of the SRD may provide for a more consistent interpretation of the rules and, thus, is an element of the potentially large cost savings of harmonization.

The FAA requests that current or potential part 25 manufacturers who believe that the rule would result in a cost increase to provide the basis of such information to the docket.

Initial Regulatory Flexibility Determination

The Regulatory Flexibility Act of 1980 (RFA) of 1980, as amended, establishes as a principle of regulatory issuance that agencies shall endeavor, consistent with the objective of the rule and of applicable statutes, to fit regulatory and informational requirements to the sale of the business, organizations, and governmental jurisdictions subject to regulation. To achieve that principle, the RFA requires agencies to solicit and consider flexible regulatory proposals and to explain the rationale for their actions.

Agencies must perform a review to determine whether a proposed or final rule will have a significant economic impact on a substantial number of small entities. If the determination is that the rule will, the agency must prepare a regulatory flexibility analysis as described in the RFA.

However, if an agency determines that a proposed or final rule is not expected to have a significant economic impact on a substantial number of small entities, section 605(b) of the RFA provides that the head of the agency may so certify and a regulatory flexibility analysis is not required. The certification must include a statement providing the factual basis for this determination, and the reasoning should be clear.

The FAA believes that this proposed rule would not have a significant economic impact on a substantial number of small entities for two reasons:

First, the net effect of the proposed rule is minimum regulatory cost relief. The proposed rule requires that new transport category aircraft manufacturers meet just the “more stringent” European certification requirement, rather than both the United States and European standards. Airplane manufacturers already meet or expect to meet this standard as well as the existing FAR requirement.

Second, all United States transport-aircraft category manufacturers exceed the Small Business Administration small entity criteria of 1,500 employees for aircraft manufacturers. United States part 25 airplane manufacturers include: Boeing, Cessna Aircraft, Gulfstream Aerospace, Learjet (owned by Bombardier), Lockheed Martin, McDonnell Douglas (a wholly-owned subsidiary of The Boeing Company), Raytheon Aircraft, and Sabreliner Corporation.

Given that this proposed rule is only minimally cost-relieving and that there are no small entity manufacturers of part 25 airplanes, the FAA certifies that this proposed rule will not have a significant economic impact on a substantial number of small entities.

International Trade Impact

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards. In addition, consistent with the Administration's belief in the general superiority and desirability of free trade, it is the policy of the Administration to remove or diminish to the extent feasible, barriers to international trade, including both barriers affecting the export of American goods and services to foreign countries and barriers affecting the import of foreign goods and services into the United States.

In accordance with the above statute and policy, the FAA has assessed the potential effect of the proposed rule and has determined that it supports the Administration's free trade policy because this rule would use European international standards as the basis for U.S. standards.

Unfunded Mandates Reform Act

Title II of the Unfunded Mandates Reform Act of 1995 (the Act) (2 U.S.C. 1532-1538), enacted as Public Law 104-4 on March 22, 1995, requires each Federal agency, to the extent permitted by law, to prepare a written assessment of the effects of any Federal mandate in a proposed or final agency rule that may result in the expenditure by State, local, and tribal governments, in the aggregate, or by the private sector, of $100 million or more (adjusted annually for inflation) in any one year. This proposed rule does not contain a Federal intergovernmental or private sector mandate that exceeds $100 million in any year; therefore, the requirements of the Act do not apply.

What Other Assessments Has the FAA Conducted?

Executive Order 13132, Federalism

The FAA has analyzed this proposed rule under the principles and criteria of Executive Order 13132, Federalism. The FAA has determined that this action would not have a substantial direct effect on the States, on the relationship between the national Government and the States, or on the distribution of power and responsibilities among the various levels of government. Therefore, the FAA has determined that this notice of proposed rulemaking would not have federalism implications.

Paperwork Reduction Act

In accordance with the Paperwork Reduction Act of 1995 [44 U.S.C. 3507(d)], the FAA has determined there are no requirements for information collection associated with this proposed rule.

International Compatibility

In keeping with U.S. obligations under the Convention on International Civil Aviation, it is FAA policy to comply with International Civil Aviation Organization (ICAO) Standards and Recommended Practices to the maximum extent practicable. The FAA determined that there are no ICAO Standards and Recommended Practices that correspond to these proposed regulations.

Environmental Analysis

FAA Order 1050.1D defines FAA actions that may be categorically excluded from preparation of a National Environmental Policy Act (NEPA) environmental impact statement. In accordance with FAA Order 1050.1D, appendix 4, paragraph 4(j), this proposed rulemaking action qualifies for a categorical exclusion.

Energy Impact

The energy impact of the proposal has been assessed in accordance with the Energy Policy and Conservation Act (EPCA) Public Law 94-163, as amended (43 U.S.C. 6362), and FAA Order 1053.1. It has been determined that the proposal is not a major regulatory action under the provisions of the EPCA.

Regulations Affecting Intrastate Aviation in Alaska

Section 1205 of the FAA Reauthorization Act of 1996 (110 Stat. 3213) requires the Administrator, when modifying regulations in Title 14 of the CFR in a manner affecting intrastate aviation in Alaska, to consider the extent to which Alaska is not served by transportation modes other than aviation, and to establish such regulatory distinctions as he or she considers appropriate. Because this proposed rule would apply to the certification of future designs of transport category airplanes and their subsequent operation, it could, if adopted, affect intrastate aviation in Alaska. The FAA therefore specifically requests comments on whether there is justification for applying the proposed rule differently to intrastate operations in Alaska.

Plain Language

In response to the June 1, 1998, Presidential memorandum regarding the use of plain language, the FAA re-examined the writing style currently used in the development of regulations. The memorandum requires Federal agencies to communicate clearly with the public. We are interested in your comments on whether the style of this document is clear, and in any other suggestions you might have to improve the clarity of FAA communications that affect you. You can get more information about the Presidential memorandum and the plain language initiative at http://www.plainlanguage.gov.

List of Subjects in 14 CFR Part 25

Aircraft, Aviation safety, Powerplant fire protection, Reporting and recordkeeping requirements.

The Proposed Amendment

In consideration of the foregoing, the Federal Aviation Administration proposes to amend part 25 of Title 14, Code of Federal Regulations, as follows:

PART 25—AIRWORTHINESS STANDARDS: TRANSPORT CATEGORY AIRPLANES

1. The authority citation for part 25 continues to read as follows:

Authority: 49 U.S.C. 106(g), 40113, 44701, 44702 and 44704.

2. Amend § 25.1183 by adding a new paragraph (c) to read as follows:

§ 25.1183 Flammable fluid-carrying components.

* * * * *

(c) All components, including ducts, within a designated fire zone must be fireproof if, when exposed to or damaged by fire, they could—

(1) Result in fire spreading to other regions of the airplane; or

(2) Cause unintentional operation of, or inability to operate, essential services or equipment.

Issued in Renton, Washington, on June 1, 2000.
John J. Hickey,
Manager, Transport Airplane Directorate, Aircraft Certification Service.

[FR Doc. 00-14483 Filed 6-9-00; 8:45 am]

BILLING CODE 4910-13-U